Title 3—

The President

Memorandum of September 26, 2014

Certification Concerning U.S. Participation in the United Nations Multidimensional Integrated Stabilization Mission in the Central African Republic Consistent With Section 2005 of the American Servicemembers' Protection Act

Memorandum for the Secretary of State

By the authority vested in me as President by the Constitution and the laws of the United States of America, and consistent with section 2005 of the American Servicemembers' Protection Act of 2002 (22 U.S.C. 7424), concerning the participation of members of the Armed Forces of the United States in certain United Nations peacekeeping and peace enforcement operations, I hereby certify that members of the U.S. Armed Forces participating in the United Nations Multidimensional Integrated Stabilization Mission in the Central African Republic are without risk of criminal prosecution or other assertion of jurisdiction by the International Criminal Court (ICC) because the Central African Republic has entered into an agreement in accordance with Article 98 of the Rome Statute preventing the ICC from proceeding against members of the Armed Forces of the United States present in that country.

You are authorized and directed to submit this certification to the Congress and publish it in the Federal Register.

THE WHITE HOUSE,

Washington, September 26, 2014

[FR Doc. 2014-27847

Filed 11-20-14; 11:15 am]

Billing code 4710-10